DEPARTMENT OF AGRICULTURE

Agricultural Research Service

Notices of Prospective Exclusive, Co-Exclusive or Partially Exclusive Domestic or Foreign Licenses of Government-Owned Inventions

AGENCY: Agricultural Research Service, USDA.

ACTION: Notice.

SUMMARY: Currently, the Agricultural Research Service (ARS) publishes notices of prospective exclusive, co-exclusive or partially exclusive domestic or foreign licenses of Government owned inventions of USDA (including, but not limited to, Agricultural Research Service, Forest Service and Animal and Plant Health Inspection Service) in the Federal Register.

DATES: ARS is announcing that starting on March 15, 2020, it will begin publishing such notices at the Federal Laboratory Consortium for Technology Transfer website (https://www.federallabs.org/licenses-list), providing opportunity for filing written objections within at least a 15-day period.

ADDRESSES: Questions related to this notice may be submitted to USDA, ARS, Office of Technology Transfer, 5601 Sunnyside Avenue, Rm. 4-1174, Beltsville, Maryland 20705-5131.

FOR FURTHER INFORMATION CONTACT: Brian T. Nakanishi of the Office of Technology Transfer at the Beltsville address given above; telephone: 301-504-5989.

SUPPLEMENTARY INFORMATION: Pursuant to 37 CFR 404.7(a)(1)(i), an exclusive, co-exclusive or partially exclusive domestic license, and, pursuant to 37 CFR 404.7(b)(1)(i), an exclusive, co-exclusive or partially exclusive foreign license, may be granted on Government owned inventions only if notice of a prospective license has been published in the Federal Register or other appropriate manner, providing opportunity for filing written objections within at least a 15-day period.

ARS provides notice that it will publish future notices of prospective exclusive, co-exclusive or partially exclusive domestic or foreign licenses at the Federal Laboratory Consortium for Technology Transfer website (https://www.federallabs.org/licenses-list), providing opportunity for filing written objections within at least a 15-day period.

Authority: 35 U.S.C. 200 et seq.

Mojdeh Baharm,
Assistant Administrator,

[FR Doc. 2020-03011 Filed 2-13-20; 8:45 am]

BILLING CODE 3410-03-P